DEPARTMENT OF ENERGY

Federal Energy Regulatory Commission

[Docket No. CP07-20-001]

Texas Eastern Transmission, LP; Notice of Compliance Filing

February 9, 2007.

Take notice that on February 6, 2007, Texas Eastern Transmission, LP (Texas Eastern) tendered for filing a compliance filing pursuant to Commission's January 24, 2007 order, in Docket No. CP07-20-000.

Texas Eastern states that copies of the filing have been served upon all affected customers of Texas Eastern and interested state commissions and all parties on the official service list in the above-captioned proceeding.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 pm Eastern Time on February 23, 2007.

Magalie R. Salas,
Secretary.

[FR Doc. E7-2696 Filed 2-15-07; 8:45 am]

BILLING CODE 6717-01-P